DEPARTMENT OF LABOR

Employment and Training Administration

[TA-W-61,270]

CNH America LLC, Belleville Manufacturing Plant Including On-Site Leased Workers From Armstrong's, CNH Meridian, FBG Service Corporation, Industrial Distribution Group, Jim Buch's Repair Services, Jon Industrial Lube, Kelly Services, UTI Integrated Logistics, and Anixter Fasteners, Belleville, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 2, 2007, applicable to workers of CNH America LLC, Belleville Manufacturing Plant, including on-site leased workers from Armstrong's, CNH Meridian, FBG Service Corporation, Industrial Distribution Group, Jim Buch's Repair Services, Jon Industrial Lube, Kelly Services, and UTI Integrated Logistics, Belleville, Pennsylvania. The notice will be published soon in the Federal Register.

At the request of the State agency, the Department reviewed the certification for workers of the subject firm. The workers are engaged in the production of agricultural machinery, specifically front-end loaders, hay and forage equipment (conditioners, rakes, forage harvesters, headers, and windrowers), bale wagons, and spreaders).

New information shows that leased workers of Anixter Fasteners were employed on-site at the Belleville, Pennsylvania location of CNH America LLC, Belleville Manufacturing Plant.

Based on these findings, the Department is amending this certification to include leased workers of Anixter Fasteners working on-site at CNH America LLC, Belleville Manufacturing Plant, Belleville, Pennsylvania.

The intent of the Department's certification is to include all workers employed at CNH America LLC, Belleville Manufacturing Plant, Belleville, Pennsylvania who were adversely affected by a shift in production to Mexico.

The amended notice applicable to TA-W-61,270 is hereby issued as follows:

All workers of CNH America LLC, Belleville Manufacturing Plant, including on-site leased workers of Armstrong's, CNH Meridian, FBG Service Corporation, Industrial Distribution Group, Jim Buch's Repair Services, Jon Industrial Lube, Kelly Services, UTI Integrated Logistics, and Anixter Fasteners, Belleville, Pennsylvania, who became totally or partially separated from employment on or after April 9, 2006, through May 2 2009, are eligible to apply for adjustment assistance under Section 223 of the Trade Act of 1974, and are also eligible to apply for alternative trade adjustment assistance under Section 246 of the Trade Act of 1974.

Signed at Washington, DC, this 14th day of May 2007.
Richard Church,
Certifying Officer, Division of Trade Adjustment Assistance.

[FR Doc. E7-10018 Filed 5-23-07; 8:45 am]

BILLING CODE 4510-FN-P